Title 3—

The President

Proclamation 8505 of April 28, 2010

National Foster Care Month, 2010

By the President of the United States of America

A Proclamation

Nearly a half-million children and youth are in foster care in America, all entering the system through no fault of their own. During National Foster Care Month, we recognize the promise of children and youth in foster care, as well as former foster youth. We also celebrate the professionals and foster parents who demonstrate the depth and kindness of the human heart.

Children and youth in foster care deserve the happiness and joy every child should experience through family life and a safe, loving home. Families provide children with unconditional love, stability, trust, and the support to grow into healthy, productive adults. Unfortunately, too many foster youth reach the age at which they must leave foster care and enter adulthood without the support of a permanent family.

Much work remains to reach the goal of permanence for every child, and my Administration has supported States that increased the number of children adopted out of foster care, providing over $35 million in 2009 through the Adoption Incentives program. We are also committed to meeting the developmental, educational, and health-related needs of children and youth in foster care. The American Recovery and Reinvestment Act provided a significant increase in funding for the Title IV-E adoption and foster care assistance program. States can use these funds to ensure those placed in foster care will enter a safe and stable environment.

In addition, we are implementing the Fostering Connections to Success and Increasing Adoptions Act. This law promotes permanency and improved outcomes for foster youth through support for kinship care and adoption, support for older youth, direct access to Federal resources for Indian tribes, coordinated health benefits, improved educational stability and opportunities, and adoption incentives and assistance. Former foster youth will also benefit from the Affordable Care Act, which, beginning in 2014, will ensure Medicaid coverage for them in every State.

This month, caring foster parents and professionals across our Nation will celebrate the triumphs of children and youth in foster care as they work to remove barriers to reaching a permanent family. Federal, State, and local government agencies, communities, and individuals all have a role to play as well. Together, we can ensure that young people in foster care have the opportunities and encouragement they need to realize their full potential.

NOW, THEREFORE, I, BARACK OBAMA, President of the United States of America, by virtue of the authority vested in me by the Constitution and the laws of the United States, do hereby proclaim May 2010 as National Foster Care Month. I call upon all Americans to observe this month with appropriate programs and activities to honor and support young people in foster care, and to recognize the committed adults who work on their behalf each day.

IN WITNESS WHEREOF, I have hereunto set my hand this twenty-eighth day of April, in the year of our Lord two thousand ten, and of the Independence of the United States of America the two hundred and thirty-fourth.

[FR Doc. 2010-10572

Filed 5-3-10; 8:45 am]

Billing code 3195-W0-P